DEPARTMENT OF THE TREASURY

Internal Revenue Service

26 CFR Part 31

[TD 9196]

RIN 1545-BE21

Withholding Exemptions: Correction

AGENCY: Internal Revenue Service (IRS), Treasury.

ACTION: Correcting Amendment.

SUMMARY: This document corrects final and temporary regulations (TD 9196) that were published in the Federal Register on Thursday, April 14, 2005 (70 FR 19694). The document contains regulations providing guidance under section 3402(f) of the Internal Revenue Code (Code) for employers and employees relating to the Form W-4, “Employee's Withholding Allowance Certificate.”

DATES: This document is effective on April 14, 2005.

FOR FURTHER INFORMATION CONTACT: Margaret A. Owens, (202) 622-0047 (not a toll-free call).

SUPPLEMENTARY INFORMATION:

Background

The final and temporary regulations (TD 9196) that are the subject of these corrections are under section 3402 of the Internal Revenue Code.

Need for Correction

As published, TD 9196 contains errors that may prove to be misleading and are in need of clarification.

List of Subjects in 26 CFR Part 31

Employment taxes, Income taxes, Penalties, Pensions, Railroad retirement, Reporting and recordkeeping requirements, Social Security, Unemployment compensation.

Correction of Publication

Accordingly, 26 CFR part 31 is corrected by making the following correcting amendment:

PART 31—EMPLOYMENT TAXES

Paragraph 1. The authority citation for part 31 continues to read in part as follows:

Authority: 26 U.S.C. 7805 * * *

§ 31.3402(f)(2)-1T [Corrected]

1. Section 31.3402(f)(2)-1T(g)(4), the second sentence is amended by removing the date “April 14, 2008.” and adding “April 11, 2008.” in its place.

§ 31.3402(f)(5)-1T [Corrected]

2. Section 31.3402(f)(5)-1T(a)(2), the second sentence is amended by removing the date “April 14, 2008.” and adding “April 11, 2008.” in its place.

Cynthia Grigsby,
Acting Chief, Publications and Regulations Branch, Legal Processing Division, Associate Chief Counsel (Procedures and Administration).

[FR Doc. 05-9610 Filed 5-16-05; 8:45 am]

BILLING CODE 4830-01-P